NUCLEAR REGULATORY COMMISSION

[NRC-2009-0452; Docket Nos. 50-413 and 50-414]

Duke Energy Carolinas, LLC; Catawba Nuclear Station, Units 1 and 2; Environmental Assessment and Finding of No Significant Impact

The U.S. Nuclear Regulatory Commission (NRC) is considering issuance of amendments to Facility Operating License No. NPF-35 and Facility Operating License No. NPF-52, issued to Duke Energy Carolinas, LLC (the licensee), for operation of the Catawba Nuclear Station, Units 1 and 2 (Catawba 1 and 2), located in York County, South Carolina, in accordance with Title 10 of the Code of Federal Regulations (10 CFR) part 50. Therefore, as required by 10 CFR part 51, the NRC performed an environmental assessment. Based on the results of the environmental assessment, the NRC is issuing a finding of no significant impact.

Environmental Assessment

Identification of the Proposed Action

The proposed action would revise the Technical Specifications (TSs) by removing and updating portions of the TSs which are outdated or are obsolete including footnotes and references. The proposed changes are editorial or administrative in nature as they update the current TSs to reflect changes previously approved by the NRC.

The proposed action is in accordance with the licensee's application dated October 8, 2008, as supplemented by letter dated May 5, 2009.

The Need for the Proposed Action

The proposed action is needed to update the TSs and remove out of date and obsolete information.

Environmental Impacts of the Proposed Action

The NRC has completed its safety evaluation of the proposed action and concludes that there are no environmental impacts associated with granting the subject license amendment updating the TSs to remove outdated or obsolete information. The details of the NRC staff's safety evaluation will be provided in a letter to the licensee upon approval of the license amendment.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for Catawba Nuclear Station, Units 1 and 2, NUREG-0921, dated January 1983 and Final Supplemental Environmental Impact Statement (NUREG-1437, Supplement 9) dated December 2002.

Agencies and Persons Consulted

On September 23, 2009, the NRC staff consulted with the South Carolina State official, Mr. Michael Gandy, Department of Health and Environmental Control, regarding the environmental impact of the proposed action. The State official had no comments.

Finding of No Significant Impact

On the basis of the environmental assessment, the NRC concludes that the proposed action will not have a significant effect on the quality of the human environment. No substantial changes to the facility or its operation are associated with the proposed license amendment. Accordingly, the NRC has determined not to prepare an environmental impact statement for the proposed action.

For further details with respect to the proposed action, see the licensee's letter dated October 8, 2008, as supplemented by letter dated May 5, 2009. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 7th day of October 2009.
For the Nuclear Regulatory Commission.
Jon Thompson,
Project Manager, Plant Licensing Branch II-1, Division of Operating Reactor Licensing, Office of Nuclear Reactor Regulation.

[FR Doc. E9-24722 Filed 10-13-09; 8:45 am]

BILLING CODE 7590-01-P